DEPARTMENT OF COMMERCE

International Trade Administration

Biotech Life Sciences Trade Mission to Australia

AGENCY: International Trade Administration, Department of Commerce.

ACTION: Notice.

Mission Description

The United States Department of Commerce, International Trade Administration, U.S. and Foreign Commercial Service (CS) is organizing a Biotech Life Sciences trade mission to Australia, October 29-November 2, 2012. The mission to Australia is intended to include representatives from a variety of U.S. biotechnology and life science firms. The goals of the trade mission to Australia are to (1) increase U.S. exports to Australia, (2) introduce U.S. participants to potential strategic partners, (3) introduce U.S. participants to industry and government officials in Australia to learn about various opportunities, and (4) to educate the participants about trade policy and regulatory matters involved in doing business in Australia. Participating in an official U.S. industry delegation, rather than traveling to Australia independently, will increase the participants' profile and enhance the ability to secure meetings in Australia. The mission will include site visit(s) to prominent biotech organizations, government meetings, and briefings and receptions during the AusBiotech National Conference in Melbourne, Australia. Trade mission participants will have the opportunity to interact with CS staff to discuss industry developments, opportunities, and sales strategies.

Commercial Setting

U.S. biotech and life science firms consider Australia a harbor, with strong intellectual property rights protection and enforcement, and a transitional market that is strategically positioned to serve as a gateway to Asian markets. Australia is the leading biotechnology hub of the Asia-Pacific, with over 1,000 biotechnology companies, and clinical trials that meet the requirements under EU and FDA regulations. The Australian biotechnology sector covers human therapeutics, industrial applications, the agriculture sector, food technology, medical devices and diagnostics, and clean tech. Australia's consumer base and impressive economic strength further reinforce the importance of the market for U.S. firms.

Australia's US$11.39 billion pharmaceutical market is among the five largest in the Asia-Pacific region. Australia also has the region's second highest annual spending on medicine, after Japan. Much of this spending is on patented drugs, which account for 67% of the total pharmaceutical expenditure. Australia remains attractive to pharmaceutical firms—per-capita healthcare spending is high (US$5,077) and the regulatory regime is comparable to those in other developed countries. According to UN Comtrade, Australia imported finished medicine worth US$7.1 billion in 2010. Additionally, the current U.S. dollar-Australian dollar exchange rate is advantageous for U.S. product and services exports to Australia.

The AusBiotech National Conference is a venue that attracts not only biotech companies in the medical sector, but also in the diagnostics, agriculture, industrial and environmental biotech segments. The annual event has earned a reputation as the industry's premier biotechnology conference for the Asia Pacific region and has proved its relevance to the Australian and international biotechnology industries, attracting more than 1,100 participants including 233 international participants from 20 countries. This program presents an opportunity for the entire gamut of U.S. biotech companies looking to sell into Australia and spring board into Asia.

A U.S. Department of Commerce-led trade mission offers an attractive entrée for U.S. firms in the Australian market.

Mission Goals

The goals of the trade mission to Australia are to (1) increase U.S. exports to Australia, (2) introduce U.S. participants to potential strategic partners, (3) introduce U.S. participants to industry and government officials in Australia to learn about various opportunities, and (4) to educate the participants about trade policy and regulatory matters involved in doing business in Australia.

Mission Scenario

In Melbourne, the U.S. mission members will be briefed by International Trade Administration CS staff, and other key U.S. government officials. Senior American Consulate officials will host a networking event for the group with Australian biotech and life science industry organizations and multipliers. During the mission, U.S. participants will benefit from attending the AusBiotech National Conference, customized one-on-one matchmaking with potential partners using the biopartnering.com platform, an efficient and easy to use personalized intelligent scheduling internet platform that facilitates scheduling appointments to connect with key people. And, receive a market briefing by the International Trade Administration Commercial Specialist for the biotech life science sector at the American Consulate, and networking activities. A site visit to Australia's top biotech company and/or leading research institution will be offered.

Participation in the mission will include the following:

• Pre-travel briefings/webinar on the Australian market and doing business in Australia;

• Pre-scheduled meetings with potential partners in Australia via the biopartnering.com platform;

• Transportation to a site visit to Australia's top biotech company and/or leading research institution;

• Meetings with Australian government officials;

• Participation in AusBiotech National Conference;

• Participation in the U.S. Pavilion at the BioIndustry Exhibition at AusBiotech;

• Participation in industry networking events in Melbourne;

• Meetings with International Trade Administration CS Australia's life science industry specialist.

Proposed Timetable

Mission participants will be encouraged to arrive October 28 or 29, 2012 and the mission program will proceed from October 29 through November 2, 2012.

October 29 | Melbourne
| Arrive Melbourne.
| Day at leisure.
| Early evening no-host group dinner
October 30 | Melbourne.
| Australia market breakfast briefing.
| Site visit.
| Networking luncheon and Australian biotechnology briefing.
| Evening reception.
October 31 | Melbourne
| AusBiotech National Conference 2012.¹
| BioPartnering business matchmaking appointments.
| Conference evening welcome reception.
November 1 | Melbourne
| AusBiotech National Conference 2012 BioPartnering business matchmaking appointments.
| Conference evening dinner.
November 2 | Melbourne
| AusBiotech National Conference 2012.
| BioPartnering business matchmaking appointments.
| Conference Closing Reception.
¹ AusBiotech National Conference fee and conference evening dinner on November 1 are included in the mission participation fee.

Participation Requirements

All parties interested in participating in the Biotech Life Sciences Trade Mission to Australia must complete and submit an application for consideration by the Department of Commerce. All applicants will be evaluated on their ability to meet certain conditions and best satisfy the selection criteria as outlined below. A minimum of 10 and a maximum of 12 participants will be selected for the mission from the applicant pool. U.S. companies already involved with and/or doing business in Australia as well as U.S. companies seeking exposure to the market for the first time are encouraged to apply.

Fees and Expenses

After a company or trade association has been selected to participate in the mission, a participation fee paid to the U.S. Department of Commerce is required. The participation fee for one company representative will be $4,504 for small or medium-sized enterprises (SME) ² and $5,321 for large companies, which will cover one representative. The fee for each additional firm representative (large firm or SME/trade association) is $1,370.³ The Commercial Service will assist in booking hotels at favorable rates, but lodging costs, meals and incidental expenses will be the responsibility of each mission participant.

² An SME is defined as a firm with 500 or fewer employees or that otherwise qualifies as a small business under SBA regulations. Parent companies, affiliates, and subsidiaries will be considered when determining business size. The dual pricing reflects the Commercial Service's user fee schedule that became effective May 1, 2008.

³ The mission participation fee includes the AusBiotech National Conference registration fee and conference evening dinner on November 1.

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

• In the case of a trade association or trade organization, the applicant must certify that for each company to be represented by the association or trade organizations, the products and/or services the represented company seeks to export are either produced in the United States or, if not, marketed under the name of a U.S. firm and have at least fifty-one percent U.S. content.

Selection Criteria for Participation

Selection will be based on the following criteria:

• Suitability of a company's (or in the case of a trade association or trade organization, represented companies') products or services to the mission's goals

• Company's (or in the case of a trade association or trade organization, represented companies') potential for business in Australia, including likelihood of exports resulting from the trade mission

• Consistency of the applicant's (or in the case of a trade association or trade organization, represented companies') goals and objectives with the stated scope of the trade mission

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://export.gov/trademissions/) and other Internet web sites, press releases to general and trade media, direct mail, notices by industry trade associations and other multiplier groups, and publicity at industry meetings, symposia, conferences, and trade shows.

Recruitment for the mission will begin immediately and close on July 15, 2012. Selection decisions will be made on a rolling basis until 10-12 participants are selected. Although applications will be accepted through July 15, 2012, interested U.S. firms and trade associations are encouraged to submit their applications as soon as possible. We will inform applicants of selection decisions as the decisions are made. Applications received after July 15, 2012 will be considered only if space and scheduling constraints permit.

Contacts

U.S. Commercial Service Domestic Contact

Aileen Nandi, Senior Commercial Officer, San Jose U.S. Export Assistance Center, 408-535-2757, ext. 102, Aileen.Nandi@trade.gov.

Gabriela Zelaya, International Trade Specialist, San Jose U.S. Export Assistance Center, 408-535-2757, ext. 107, Gabriela.Zelaya@trade.gov.

U.S. Commercial Service Australia Contacts

Joe Kaesshaefer, Senior Commercial Officer, American Consulate General—Sydney, Tel: +61-2-9373-9201, Joe.Kaesshaefer@trade.gov.

Monique Roos, Commercial Specialist, American Consulate General—Sydney, Tel: +61-2-9373-9210, Monique.Roos@trade.gov.

Elnora Moye,
Trade Program Assistant.

[FR Doc. 2012-14452 Filed 6-12-12; 8:45 am]

BILLING CODE 3510-FP-P